DEPARTMENT OF COMMERCE

National Oceanic and Atmospheric Administration

[Docket No. 071003556-81194-02]

RIN 0648-XQ22

Fisheries off West Coast States; Pacific Coast Groundfish Fishery; Amendment 15

AGENCY: National Marine Fisheries Service (NMFS), National Oceanic and Atmospheric Administration (NOAA), Commerce.

ACTION: List of Limited Entry Trawl Vessels Issued Pacific Whiting Vessel Licenses.

SUMMARY: Regulatory provisions to implement Amendment 15 to the Pacific Coast Groundfish Fishery Management Plan (FMP) became effective on April 9, 2009. Amendment 15 revised the FMP to include provisions for a vessel license limitation program for the non-tribal sectors of the Pacific whiting fishery. Amendment 15 is intended to serve as an interim measure to limit potential participation in the Pacific whiting fishery within the U.S. West Coast Exclusive Economic Zone until implementation of a trawl rationalization program under Amendment 20 to the Groundfish FMP. This notice announces the list of vessels that were approved for Pacific whiting vessel licenses.

FOR FURTHER INFORMATION CONTACT: Becky Renko at 206-526-6110.

SUPPLEMENTARY INFORMATION: Amendment 15 to the Pacific Coast groundfish Fishery management plan was approved by NMFS on June 18, 2008. NMFS published a proposed rule to implement Amendment 15 on July 11, 2008 (73 FR 39930); followed with a final rule on March 10, 2009 (74 RF 10189;) and, a final rule with a correction to the on March 20, 2009 (74 FR 11880). In the preamble of the proposed rule NMFS informed the public that a list of vessels that qualified for the Pacific whiting vessel license would be published in the Federal Register following the application period.

Each Pacific whiting vessel license indicates the sector or sectors for which the vessel has qualified. To participate in any of the non-tribal whiting sectors after May 11, 2009, a harvesting vessel would be required to be registered for use with both a groundfish limited entry permit and a Pacific whiting vessel license. The license is associated with the vessel, not with a limited entry permit. A mothership vessel that processes whiting, but does not harvest, would only be required to have a whiting vessel license for the mothership sector. The Pacific whiting vessel license will not be re-issued unless it has been lost, or unless there is some change in the vessel owner information for the vessel to which it is registered. Consistent with the intent of Amendment 15, Pacific whiting vessel license holders will not be allowed to transfer the licenses to any other vessels.

Effective May 12, 2009, until implementation of a trawl rationalization program, unless modified, superseded or rescinded, only the following vessels shall be issued a Pacific whiting vessels license and be eligible to:

(1) Harvest and process catch in the catcher/processor sector of the Pacific whiting fishery:

ALASKA OCEAN (U.S. documentation number 637856)

AMERICAN DYNASTY (U.S. documentation number 951307)

AMERICAN TRIUMPH (U.S. documentation number 646737)

ISLAND ENTERPRISE (U.S. documentation number 610290)

KODIAK ENTERPRISE (U.S. documentation number 579450)

NORTHERN EAGLE (U.S. documentation number 506694)

NORTHERN JAEGER (U.S. documentation number 521069)

PACIFIC GLACIER (U.S. documentation number 933627)

SEATTLE ENTERPRISE (U.S. documentation number 904767)

(2) Process catch in the mothership sector of the Pacific whiting fishery:

ARCTIC FJORD (U.S. documentation number 940866)

ARCTIC STORM (U.S. documentation number 903511)

EXCELLENCE (U.S. documentation number 967502)

GOLDEN ALASKA (U.S. documentation number 651041)

Ocean Phoenix (U.S. documentation number 296779)

OCEAN ROVER (U.S. documentation number 552100)

(3) Harvest catch only in the mothership sector of the Pacific whiting fishery:

CAITLIN ANN (U.S. documentation number 960836)

LESLIE LEE (U.S. documentation number 584873)

MAR-GUN (U.S. documentation number 525608)

MORNING STAR (U.S. documentation number 618797)

PACIFIC FURY (U.S. documentation number 561934)

PACIFIC PRINCE (U.S. documentation number 697280)

WESTERN DAWN (U.S. documentation number 524423)

(4) Harvest catch only in the shore-based sector of the Pacific whiting fishery:

ANNETTE (U.S. documentation number 562157)

BAY ISLANDER (U.S. documentation number 521200)

CHELLISSA (U.S. documentation number 617797)

COLLIER BROTHERS (U.S. documentation number 593809)

DEFIANT (U.S. documentation number 619236)

EXCALIBUR (U.S. documentation number 578930)

FISHWISH (U.S. documentation number 655151)

GEORGE ALLEN (U.S. documentation number 528842)

GRUMPY J (U.S. documentation number 514665)

JEANETTE MARRIE (U.S. documentation number 928882)

JAMIE MARIE (U.S. documentation number 932586)

LAST STRAW (U.S. documentation number 532419)

MASTER CHARGE (U.S. documentation number 530215)

MISS BERDIE (U.S. documentation number 913277)

MISS SUE (U.S. documentation number 580055)

MORNING STAR (U.S. documentation number 1037811)

NEW LIFE (U.S. documentation number 504299)

NICOLE (U.S. documentation number 923632)

OCEAN HUNTER (U.S. documentation number 926699)

PACIFIC (U.S. documentation number 626917)

PACIFIC FUTURE (U.S. documentation number 612155)

SEA CLIPPER (U.S. documentation number 553396)

STARWARD (U.S. documentation number 617807)

STORMIE C (U.S. documentation number 936611)

WARRIOR II (U.S. documentation number 539091)

WESTERN SEAS (U.S. documentation number 516880)

(5) Harvest catch only in the either the mothership or shore-based sector of the Pacific whiting fishery:

ALEUTIAN CHALLENGER (U.S. documentation number 603820)

AMERICAN BEAUTY (U.S. documentation number 613847)

BLUE FOX (U.S. documentation number 979437)

CAPE KIWANDA (U.S. documentation number 618158)

LISA-MELINDA (U.S. documentation number 584360)

MARATHON (U.S. documentation number 596156)

MARK I (U.S. documentation number 509552)

MESSIAH (U.S. documentation number 610150)

MISS SARAH (U.S. documentation number 921578)

MUIR MILACH (U.S. documentation number 611524)

NEAHKAHNIE (U.S. documentation number 599534)

NORDIC FURY (U.S. documentation number 542651)

OCEAN LEADER (U.S. documentation number 561518)

PACIFIC CHALLENGER (U.S. documentation number 518937)

PACIFIC RAM (U.S. documentation number 589115)

PEGASUS (U.S. documentation number 565120)

PERSEVERANCE (U.S. documentation number 536873)

PREDATOR (U.S. documentation number 547390)

RAVEN (U.S. documentation number 629499)

SEADAWN (U.S. documentation number 548685)

SEA STORM (U.S. documentation number 628959)

SEEKER (U.S. documentation number 924585)

TRAVELER (U.S. documentation number 929356)

Authority: 16 U.S.C. 1801 et seq.

Dated: July 13, 2009.
Kristen C. Koch,
Acting Director, Office of Sustainable Fisheries, National Marine Fisheries Service.

[FR Doc. E9-17069 Filed 7-16-09; 8:45 am]

BILLING CODE 3510-22-S